DEPARTMENT OF COMMERCE

Foreign-Trade Zones Board

[B-52-2021]

Foreign-Trade Zone (FTZ) 265—Conroe, Texas ; Authorization of Export-Only Production Activity, Galdisa USA (Peanut Products), Conroe, Texas

On June 30, 2021, the City of Conroe, Texas, grantee of FTZ 265, submitted a notification of proposed export-only production activity to the FTZ Board on behalf of Galdisa USA, within FTZ 265, in Conroe, Texas.

The notification was processed in accordance with the regulations of the FTZ Board (15 CFR part 400), including notice in the Federal Register inviting public comment (86 FR 37116-37117, July 14, 2021). On October 28, 2021, the applicant was notified of the FTZ Board's decision that no further review of the activity is warranted at this time. The export-only production activity described in the notification was authorized, subject to the FTZ Act and the FTZ Board's regulations, including Section 400.14.

Dated: October 28, 2021.
Andrew McGilvray,
Executive Secretary.

[FR Doc. 2021-23837 Filed 11-1-21; 8:45 am]

BILLING CODE 3510-DS-P